FEDERAL LABOR RELATIONS AUTHORITY

Privacy Act of 1974; System of Records

AGENCY: Office of Inspector General, Federal Labor Relations Authority.

ACTION: Notice of a modified system of records.

SUMMARY: In accordance with the Privacy Act of 1974, the Federal Labor Relations Authority (FLRA), Office of Inspector General (OIG) proposes to amend a current FLRA OIG system of records titled, “Office of Inspector General Investigative Files,” by adding two categories of individuals covered by the system, modifying four existing routine uses, rescinding one existing routine use, adding eight new routine uses, adding clarity and specificity to descriptions of the system, and making technical changes and corrections.

DATES: Comments must be received on or before June 23, 2025. The modification of the system of records will be applicable on June 23, 2025, unless FLRA OIG receives comments and determines that changes to the system of records notice is necessary.

ADDRESSES: You may submit comments, identified by docket number OIG-2025-0001 by one of the following methods:

• Federal eRulemaking Portal: https://www.regulations.gov. Follow the instructions for submitting comments.

• Email: OIGMail@flra.gov.

• Fax: (202) 208-4535.

• Mail: Federal Labor Relations Authority, Office of Inspector General, 1400 K Street NW, Floor 3, Washington, DC 20424.

• Instructions: All submissions received must include the agency name and docket number. All comments received will be posted without change to https://www.regulations.gov, including any personal information provided.

• Docket: For access to the docket or to read background documents or comments received, go to https://www.regulations.gov.

FOR FURTHER INFORMATION CONTACT: Matthew Bolstad, (771) 444-5712, OIGMail@flra.gov.

SUPPLEMENTARY INFORMATION: In this proposed modification to the system of records, FLRA OIG makes the following substantive changes:

FLRA OIG is modifying the security classification from “Unclassified” to “Sensitive but Unclassified and/or Controlled Unclassified Information” to more accurately reflect the sensitive nature of the records. FLRA OIG is making the purpose of the system more specific, from a general statement about investigative activities under the Inspector General Act of 1978, to specifically describing those investigative activities. FLRA OIG is revising the categories of individuals covered by the system to define investigative “subjects.” FLRA OIG is also adding and defining two new categories of individuals covered by the system: “complainants” and “others.” FLRA OIG is adding a category of records in the system to explicitly include complaints received by FLRA OIG. While this type of record was already included within the general investigative records category, a separate category for complaints will ensure the inclusion in the system is clear. FLRA OIG is replacing the text in the Record Source Categories section with a reference to the Categories of Individuals Covered by the System section and noting that the system contains investigatory material for which sources need not be reported.

FLRA OIG is amending the following routine uses: a. by adding Tribal to the list of governmental entities to which disclosure may be made, and adding a violation or potential violation of a contract to the basis for disclosure (1); c. by reorganizing and revising the content for clarity and adding other government-related actions for which disclosure may be made; f. by revising and reorganizing part (1) for clarity and making part (2) a separate and new routine use, m.; and g. by substituting disclosure to a “Member of Congress” in place of “congressional office.”

FLRA OIG is deleting existing routine use m. for being unduly broad.

FLRA OIG is adding the following new routine uses: m. will replace existing routine use f., part (2), providing for disclosure to the U.S. Department of Justice for the purpose of obtaining its advice; n. disclosure to agencies and organizations in order to obtain information relevant to specified FLRA OIG decisions and actions; o. disclosure to a public authority for use in computer matching for program integrity and law enforcement purposes; p. disclosure to officials responsible for assessing FLRA OIG operations; q. disclosure to complainants and/or victims regarding progress of investigation; r. disclosure to former FLRA OIG employees for assistance in official matters; s. disclosure to the National Archives and Records Administration (NARA) for its responsibilities under the Freedom of Information Act; and t. disclosure to NARA for records management inspection requirements.

FLRA OIG is also amending the Policies and Practices for Retrieval of Records section to provide for retrieval by the name of complainant or unique control number assigned to each complaint. FLRA OIG is replacing the content in the Record Access Procedures and Contesting Record Procedures section with reference to the Notification Procedures section. Finally, FLRA OIG is revising the Notification Procedures section to identify the exemptions applicable to the system and provide the FLRA OIG address for inquiries.

In accordance with 5 U.S.C. 552a(r), FLRA OIG has provided a report on this system of records to the Office of Management and Budget, the Committee on Oversight and Accountability of the House of Representatives, and the Committee on Homeland Security and Governmental Affairs of the Senate, on the proposed modified system of records.

Dated: May 19, 2025.
Dana A. Rooney,
Inspector General, Federal Labor Relations Authority.

SYSTEM NAME AND NUMBER:

Office of Inspector General Investigative Files, FLRA/OIG-1.

SECURITY CLASSIFICATION:

Sensitive but Unclassified and/or Controlled Unclassified Information.

SYSTEM LOCATION:

Office of Inspector General, Federal Labor Relations Authority, 1400 K Street NW, Washington, DC 20424.

SYSTEM MANAGER(S):

Inspector General, Office of Inspector General, Federal Labor Relations Authority, 1400 K Street NW, Washington, DC 20424.

AUTHORITY FOR MAINTENANCE OF THE SYSTEM:

The Inspector General Act of 1978, 5 U.S.C. chapter 4.

PURPOSE(S) OF THE SYSTEM:

The records and information collected and maintained in this system are used to discharge the duties of the Federal Labor Relations Authority (FLRA), Office of Inspector General (OIG), including: (a) receipt and/or investigation of allegations regarding a violation of any criminal or civil law, regulation, policy, or standard applicable to employees of the FLRA; (b) receipt and/or investigation of allegations regarding a violation of criminal or civil law, regulation, policy, standard, or contract having a nexus to the FLRA, including allegations of fraud against FLRA programs or operations by any person or entity; and (c) to conduct inquiries and investigations into allegations of wrongdoing, whether criminal, civil, or administrative, made against FLRA employees, contractors, and other individuals or entities associated with the FLRA.

CATEGORIES OF INDIVIDUALS COVERED BY THE SYSTEM:

1. Subjects. These are individuals and entities against whom allegations of wrongdoing have been made. In some instances, these individuals and entities have been the subjects of preliminary inquiries or official investigations conducted by OIG to determine whether allegations are substantiated. In other instances, the allegations were deemed to lack information facilitating investigation or not within the purview of the OIG's authority to investigate.

2. Complainants. These are individuals and entities who may or may not have requested anonymity or confidentiality regarding their identity, and who allege administrative, civil, or criminal wrongdoing, mismanagement, or unfair treatment by FLRA employees, contractors, subcontractors, and/or other persons or entities, relating to FLRA programs or operations.

3. Others. These are all other individuals and entities relevant to, or contacted as part of, a matter investigated by OIG.

CATEGORIES OF RECORDS IN THE SYSTEM:

1. Letters, memoranda, and other records containing or citing complaints of alleged criminal, civil, or administrative misconduct, including complaints submitted directly to OIG personnel or through OIG's “Hotline.”

2. Correspondence relating to the investigation; internal staff memoranda; copies of subpoenas issued during the investigation, affidavits, statements from witnesses, transcripts of testimony taken in the investigation and accompanying exhibits; documents, records, or copies obtained during the investigation; interview notes, investigative notes, staff working papers, draft materials, and other documents and records relating to the investigation; opening reports, progress reports, and closing reports; and other investigatory information or data relating to alleged or suspected criminal, civil, or administrative violations or similar wrongdoing by subject individuals.

RECORD SOURCE CATEGORIES:

See “Categories of Individuals . . .” above. This system contains investigatory material for which sources need not be reported.

ROUTINE USES OF RECORDS MAINTAINED IN THE SYSTEM, INCLUDING CATEGORIES OF USERS AND PURPOSES OF SUCH USES:

In addition to the disclosure generally permitted under 5 U.S.C. 552a(b) of the Privacy Act, these records or information in these records may be disclosed pursuant to 5 U.S.C. 552a(b)(3):

a. To other agencies, offices, establishments, and authorities, whether Federal, State, Tribal, local, foreign, or self-regulatory (including, but not limited to, organizations such as professional associations or licensing boards), authorized or with the responsibility to investigate, litigate, prosecute, enforce, or implement a statute, rule, regulation, or order, where the record or information, by itself or in connection with other records or information:

(1) Indicates a violation or potential violation of a contract or law, whether criminal, civil, administrative, or regulatory in nature, and whether arising by general statute or particular program statute, or by regulation, rule, or order issued pursuant thereto, or;

(2) Indicates a violation or potential violation of a professional, licensing, or similar regulation, rule, or order, or otherwise reflects on the qualifications or fitness of an individual licensed or seeking to be licensed.

b. To any source, private or governmental, to the extent necessary to secure from such source information relevant to and sought in furtherance of a legitimate investigation or audit of the OIG.

c. To a Federal, State, Tribal, local, foreign, or self-regulatory agency (including but not limited to organizations such as professional associations or licensing boards), or other public authority to the extent the information is relevant and necessary to the requestor's hiring or retention of an individual or any other personnel action; issuance or revocation of a security clearance, license, grant, or other benefit; establishment of a claim; letting of a contract; reporting of an investigation of an individual; or for purposes of a suspension or debarment action, or the initiation of administrative, civil, or criminal action.

d. To the Office of Personnel Management, the Office of Government Ethics, the Merit Systems Protection Board, the Office of Special Counsel, or the Equal Employment Opportunity Commission, records or portions thereof relevant and necessary to carrying out their authorized functions, such as, but not limited to, rendering advice requested by the OIG, investigations of alleged or prohibited personnel practices (including discriminatory practices), appeals before official agencies, offices, panels, boards, or courts, and authorized studies or reviews of civil service or merit systems or affirmative action programs.

e. To independent auditors or other private firms with which the OIG has contracted to carry out an independent audit or investigation, or to analyze, collate, aggregate or otherwise refine data collected in the system of records, subject to the requirement that such contractors shall maintain Privacy Act safeguards with respect to such records.

f. To the U.S. Department of Justice or in a proceeding before a court, administrative tribunal, or adjudicative body, when:

(1) The FLRA;

(2) OIG, or any component thereof;

(3) Any employee of OIG in his or her official capacity;

(4) Any employee of OIG in his or her individual capacity where the Department of Justice has agreed to represent the employee; or

(5) The United States, where OIG determines that litigation is likely to affect FLRA or any of its components, is a party to the litigation or has an interest in such litigation, and OIG determines that use of such records is relevant and necessary to the litigation, provided, however, that in each case, OIG determines that disclosure of the records is a use of the information contained in the records that is compatible with the purpose for which the records were collected.

g. To a Member of Congress from the record of a subject individual in response to an inquiry from the Member of Congress made at the request of that individual, but only to the extent that the record would be legally accessible to that individual.

h. To any direct recipient of Federal funds, such as a contractor, where such record reflects serious inadequacies with a recipient's personnel and disclosure of the record is for purposes of permitting a recipient to take corrective action beneficial to the government.

i. To debt-collection contractors for the purpose of collecting debts owed to the government as authorized by the Debt Collection Act of 1982, 31 U.S.C. 3718.

j. To appropriate agencies, entities, and persons when (1) OIG or another component of the FLRA suspects or has confirmed that there has been a breach of the system of records; (2) OIG has determined that as a result of the suspected or confirmed breach there is a risk of harm to individuals, OIG or the FLRA (including their information systems, programs, and operations), the Federal Government, or national security; and (3) the disclosure made to such agencies, entities, and persons is reasonably necessary to assist in connection with OIG's or the FLRA's efforts to respond to the suspected or confirmed breach or to prevent, minimize, or remedy such harm.

k. To another Federal agency or Federal entity, when the OIG determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

l. To contractors, grantees, experts, consultants, students, and others performing or working on a contract, service, grant, cooperative agreement, or other assignment for the federal government, when necessary to accomplish an agency function related to this system of records.

m. To the U.S. Department of Justice for the purpose of obtaining its advice on an OIG audit, investigation, or other inquiry, including Freedom of Information Act or Privacy Act matters.

n. To a Federal, State, Tribal, local, or foreign agency, other public authority, law enforcement task force, consumer reporting agency, or professional organization maintaining civil, criminal, or other relevant enforcement or other pertinent records, such as current licenses, in order to obtain information relevant to an OIG decision concerning employee retention or other personnel action, issuance of a security clearance, letting of a contract or other procurement action, issuance of a benefit, establishment of a claim, collection of a delinquent debt, or initiation of an administrative, civil, or criminal action.

o. To a Federal, State, Tribal, local, or foreign agency, other public authority, or law enforcement task force for use in computer matching to prevent and detect fraud and abuse in benefit or other programs administered by any agency, to support civil and criminal law enforcement activities of any agency and its components, and to collect debts and overpayments owed to any agency and its components.

p. To any official charged with the responsibility to conduct qualitative assessment, peer, or similar reviews of internal safeguards and management procedures employed in investigative, audit, inspection, and evaluation operations. This disclosure category includes members of the Council of the Inspectors General on Integrity and Efficiency (CIGIE) or any successor entity and officials and administrative staff within their chain of command, as well as authorized officials of the U.S. Department of Justice and the Federal Bureau of Investigation.

q. To complainants and/or victims to the extent necessary to provide such persons with information and explanations concerning the progress and/or results of the investigation or case arising from the matters of which they complained and/or of which they were a victim.

r. To a former employee of OIG for purposes of: responding to an official inquiry by a Federal, State, Tribal, or local government entity or professional licensing authority, in accordance with applicable FLRA regulations; or facilitating communications with a former employee that may be necessary for personnel-related or other official purposes where OIG requires information and/or consultation assistance from the former employee regarding a matter within that person's former area of official responsibility.

s. To the National Archives and Records Administration (NARA), Office of Government Information Services (OGIS), to the extent necessary to fulfill its responsibilities under 5 U.S.C. 552(h), to review administrative agency policies, procedures, and compliance with the Freedom of Information Act (FOIA), and to facilitate OGIS' offering of mediation services to resolve disputes between persons making FOIA requests and administrative agencies.

t. To NARA pursuant to records management inspections being conducted under the authority of 44 U.S.C. 2904 and 2906.

POLICIES AND PRACTICES FOR STORAGE OF RECORDS:

These records may be in either paper or electronic form, consisting of files, audio or video recordings, disks, flash drives, or other electronic storage media.

POLICIES AND PRACTICES FOR RETRIEVAL OF RECORDS:

The records are retrieved by the name of the subject or complainant or by a unique control number assigned to each complaint and each investigation.

POLICIES AND PRACTICES FOR RETENTION AND DISPOSAL OF RECORDS:

Under approved FLRA records schedule N1-480-01-1:

a. Substantiated FLRA OIG investigation case files meeting one or more of the following criteria are permanent: (1) Cases involving senior agency personnel such as the Chairman; the Members; Chief Counsels; the General Counsel; the Chief Administrative Law Judge; the Solicitor; the Executive Director; the Executive Director of the Federal Service Impasses Panel; or other senior officials at the Division-level or above who are either appointed officers or career employees; (2) cases resulting in extensive media coverage, either nationally or regionally; (3) cases resulting in further investigation by Congress; (4) cases involving substantial amounts of money (over $5,000); or (5) cases resulting in substantive changes in FLRA policies and procedures.

b. All other OIG investigation case files are destroyed 10 years after the end of the fiscal year in which the case closes.

ADMINISTRATIVE, TECHNICAL, AND PHYSICAL SAFEGUARDS:

Records are maintained in lockable metal file cabinets in lockable rooms and in password-protected automated systems. Access is restricted to individuals whose duties require access to the records. File cabinets and rooms are locked during non-duty hours.

RECORD ACCESS PROCEDURES:

See “Notification Procedures” below.

CONTESTING RECORD PROCEDURES:

See “Notification Procedures” below.

NOTIFICATION PROCEDURES:

This system of records contains records that are exempt from the notification, access, and contesting records requirements pursuant to 5 U.S.C. 552a(j)(2) and (k)(2). Individuals seeking access to any non-exempt record contained in this system of records, or seeking to contest its content, may inquire in writing in accordance with instructions appearing at 5 CFR part 2412. Written inquiries should be addressed to: Privacy Act Request, Office of Inspector General, Federal Labor Relations Authority, 1400 K St. NW, Fl. 3, Washington, DC 20424.

EXEMPTIONS PROMULGATED FOR THE SYSTEM:

Pursuant to 5 U.S.C. 552a(j)(2), this system of records is exempted from all provisions of 5 U.S.C. 552a, except subsections (b), (c)(1) and (2), (e)(4)(A) through (F), (e)(6), (7), (9), (10), and (11), and (i).

Pursuant to 5 U.S.C. 552a(k)(2), this system is exempted from 5 U.S.C. 552a(c)(3), (d), (e)(1), (e)(4)(G), (H), and (I), and (f).

These exemptions are set forth in the FLRA's Privacy Act regulations, 5 CFR part 2412; see 5 CFR 2412.15.

HISTORY:

This system of records was last published at 82 FR 49811 (October 27, 2017).

[FR Doc. 2025-09194 Filed 5-21-25; 8:45 am]

BILLING CODE 7627-01-P